NATIONAL FOUNDATION ON THE ARTS AND THE HUMANITIES

National Endowment for the Arts

30-Day Notice for the “Applications From Students for Agency Initiatives Poetry Out Loud or the Musical Theater Songwriting Challenge for High School Students”

AGENCY: National Endowment for the Arts, National Foundation on the Arts and the Humanities.

ACTION: Notice of proposed collection; comment request.

SUMMARY: The National Endowment for the Arts (NEA), as part of its continuing effort to reduce paperwork and respondent burden, conducts a preclearance consultation program to provide the general public and federal agencies with an opportunity to comment on proposed and/or continuing collections of information in accordance with the Paperwork Reduction Act of 1995. This program helps to ensure that requested data is provided in the desired format; reporting burden (time and financial resources) is minimized; collection instruments are clearly understood; and the impact of collection requirements on respondents is properly assessed. Currently, the NEA is soliciting comments concerning the proposed information collection of: Applications from Students for Agency Initiatives Poetry Out Load or the Musical Theater Songwriting Challenge for High School Students.” A copy of this ICR, with applicable supporting documentation, may be obtained by visiting www.Reginfo.gov.

DATES: Interested persons are invited to submit comments November 20, 2024.

ADDRESSES: Comments should be sent to the Office of Information and Regulatory Affairs, Attn: OMB Desk Officer for the National Endowment for the Arts, Office of Management and Budget, Room 10235, Washington, DC 20503.

FOR FURTHER INFORMATION CONTACT: David Travis, 202-682-5001, travisd@arts.gov.

SUPPLEMENTARY INFORMATION: The Office of Management and Budget (OMB) is particularly interested in comments which: (1) Evaluate whether the proposed collection of information is necessary for the proper performance of the functions of the agency, including whether the information will have practical utility; (2) Evaluate the accuracy of the agency's estimate of the burden of the proposed collection of information including the validity of the methodology and assumptions used; (3) Enhance the quality, utility, and clarity of the information to be collected; and (4) Could help minimize the burden of the collection of information on those who are to respond, including through the use of electronic submission of responses through Grants.gov.

Agency: National Endowment for the Arts.

Title: “Applications from Students for Agency Initiatives Poetry Out Loud or the Musical Theater Songwriting Challenge for High School Students.”

OMB Number: TBD.

Frequency: Annually.

Affected public: Individuals.

Estimated number of respondents: 300.

Total burden hours: 300 hours.

Total annualized capital/startup costs: 0.

Total annual costs (operating/maintaining systems or purchasing services): $3,725.

Dated: October 15, 2024.
David Travis,
Guidelines and Panel Operations Specialist, National Endowment for the Arts.

[FR Doc. 2024-24115 Filed 10-18-24; 8:45 am]

BILLING CODE 7537-01-P